DEPARTMENT OF AGRICULTURE

Forest Service

Superior National Forest, Kawishiwi Ranger District, MN, Glacier Project Environmental Impact Statement

AGENCY: Forest Service, USDA.

ACTION: Notice of intent to prepare an Environmental Impact Statement.

SUMMARY: The Department of Agriculture, Forest Service, will prepare an environmental impact statement (EIS) for the Glacier Project. The proposed activities would manage forest vegetation composition, structure, and spatial patterns (including habitat de-fragmentation), and the transportation system associated with these activities.

DATES: Comments concerning the scope of the analysis must be received by November 30, 2007. The draft environmental impact statement is expected in January 2008 and the final environmental impact statement is expected in May 2008.

ADDRESSES: Send written comments to Mark E. Van Every, Kawishiwi District Ranger, Glacier Project EIS, 1393 Hwy 169, Ely, MN 55731. Send electronic comments to comments-eastern-superior-kawishiwi@fs.fed.us.

FOR FURTHER INFORMATION CONTACT: Susan Duffy, Glacier Project Leader, 1393 Hwy 169, Ely, MN 55731, Telephone (218) 365-2097.

SUPPLEMENTARY INFORMATION:

Purpose and Need for Action

The purpose of the Glacier Project is to move the area towards the vegetation and landscape ecosystem desired conditions described in the 2004 Superior National Land and Resource Management Plan.

Proposed Action

The Proposed Action would manage forest vegetation composition, structure, and spatial patterns and the transportation system associated with these activities. Proposed activities include: creating young forest on approximately 5,500 acres, improving stand structure and within-stand diversity on approximately 2,500 acres, and restoring stand conditions through a variety of non-harvest activities such as planting, biomass removal, and conducting prescribed burns to reduce risk of wildfire on approximately 5,200 acres. The project has been specifically designed to:

• Maintain existing patches of mature forest greater than 300 acres that would not lose interior forest qualities during the next ten years.

• Create one 300-plus-acre patch of young forest by harvesting a mature patch that will not meet interior forest characteristics in ten years.

• Reduce fragmentation by proposing regeneration harvests adjacent to existing young stands, including those proposed to be harvested on other ownership.

• Maintain and improve habitat needed for threatened, endangered, and sensitive species.

Possible Alternatives

Alternative 1 is the no-action alternative. Alternative 2, the Modified Proposed Action, was developed based on the proposed action that was included in the Scoping Report and incorporates comments from the public and additional field information. Alternative 3 was developed to address the significant issues raised by the public during the Scoping comment period. The Responsible Official directed the interdisciplinary team to develop an alternative that would not harvest or build roads directly adjacent to the BWCAW and would not harvest in an area perceived to be at higher risk from non-native invasive species.

Responsible Official

Mark E. Van Every, Kawishiwi District Ranger, 1393 Hwy 169, Ely MN, 55731.

Nature of Decision To Be Made

An environmental analysis for the Glacier Project will evaluate site-specific issues, consider management alternatives, and analyze the potential effects of the proposed action and alternatives. The scope of the project is limited to decisions concerning activities within the Glacier Project Area that meet the Purpose and Need, as well as desired conditions. An environmental impact statement will provide the Responsible Official, Mark E. Van Every, with the information needed to decide which actions, if any, to approve.

Scoping Process

The District Ranger mailed the Glacier Project Scoping Report to area landowners and other interested individuals and groups in May 2007. Based on comments received during the scoping period and additional information gathered by resource specialists, the District Ranger has directed the Glacier Project Interdisciplinary Team to develop an Environmental Impact Statement. The public will be notified that an EIS is being developed and will have an additional opportunity to submit comments before the Draft EIS will be completed. The public will be notified of the significant issues and possible alternatives that will be used to disclose the effects of the project. A public meeting is planned during the comment period on the Draft EIS.

Preliminary Issues

For significant issues were identified based on comments the public submitted on the May 2007 Scoping Report. These issues involve vegetation and associated road management adjacent to the Boundary Waters Canoe Area Wilderness, project activities that have the potential to affect lynx and lynx habitat, concern about non-native invasive species, and impacts to Forest Plan Inventoried Roadless Areas.

Permits or Licenses Required

Easement or permission to cross non-federal property may be needed to access some treatment units to implement Forest Service activities.

Comment Requested

This notice of intent initiates the scoping process which guides the development of the environmental impact statement. Written comments will be solicited through a notice that will be sent to the Glacier Project mailing list.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the court. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 26, 2007.
Mark E. Van Every,
Kawishiwi District Ranger.

[FR Doc. 07-5457 Filed 11-1-07; 8:45 am]

BILLING CODE 3410-11-M